DEPARTMENT OF THE INTERIOR

National Park Service

[NPS-WASO-VRP-OPH-NPS0034620; PPWOVPADH0, PPMPRHS1Y.Y00000 (222); OMB Control Number 1024-NEW]

Agency Information Collection Activities; Submission to the Office of Management and Budget for Review and Approval; NPS Case and Outbreak Investigation Data Collections

AGENCY: National Park Service, Interior.

ACTION: Notice of Information Collection; request for comment.

SUMMARY: In accordance with the Paperwork Reduction Act of 1995, we, the National Park Service (NPS) are proposing a new information collection.

DATES: Interested persons are invited to submit comments on or before December 23, 2022.

ADDRESSES: Send written comments on this information collection request (ICR) to the Office of Management and Budget's Desk Officer for the Department of the Interior by email at OIRA_Submission@omb.eop.gov; or via facsimile to (202) 395-5806. Please provide a copy of your comments to Phadrea Ponds, Information Collection Clearance Officer, National Park Service, 12201 Sunrise Valley Drive, Reston, VA 20192 (mail); or to phadrea_ponds@nps.gov (email). Please reference OMB Control Number 1024-NEW in the subject line of your comments.

FOR FURTHER INFORMATION CONTACT: To request additional information about this ICR, contact Dr. Stefanie Campbell at stefanie_campbell@nps.gov (email) or at 202-768-5008 (telephone); or Dr. Maria Said at maria_said@nps.gov (email), or at 202-538-5681 (telephone). Individuals in the United States who are deaf, deafblind, hard of hearing, or have a speech disability may dial 711 (TTY, TDD, or TeleBraille) to access telecommunications relay services. Individuals outside the United States should use the relay services offered within their country to make international calls to the point-of-contact in the United States. You may also view the ICR at http://www.reginfo.gov/public/do/PRAMain.

SUPPLEMENTARY INFORMATION: In accordance with the PRA and 5 CFR 1320.8(d)(1), we provide the general public and other Federal agencies with an opportunity to comment on new, proposed, revised, and continuing collections of information. This helps us assess the impact of our information collection requirements and minimize the public's reporting burden. It also helps the public understand our information collection requirements and provide the requested data in the desired format.

A Federal Register notice with a 60-day public comment period soliciting comments on this collection of information was published on January 27, 2022 (87 FR 4283). No comments were received.

As part of our continuing effort to reduce paperwork and respondent burdens, we are again soliciting comments from the public and other Federal agencies on the proposed ICR that is described below. We are especially interested in public comment addressing the following:

(1) Whether or not the collection of information is necessary for the proper performance of the functions of the agency, including whether or not the information will have practical utility.

(2) The accuracy of our estimate of the burden for this collection of information, including the validity of the methodology and assumptions used.

(3) Ways to enhance the quality, utility, and clarity of the information to be collected.

(4) How might the agency minimize the burden of the collection of information on those who are to respond, including through the use of appropriate automated, electronic, mechanical, or other technological collection techniques or other forms of information technology, e.g., permitting electronic submission of response.

Comments that you submit in response to this notice are a matter of public record. Before including your address, phone number, email address, or other personal identifying information in your comment, you should be aware that your entire comment—including your personal identifying information—may be made publicly available at any time. While you can ask us in your comment to withhold your personal identifying information from public review, we cannot guarantee that we will be able to do so.

Abstract: Authorized by the NPS Organic Act (54 U.S.C. 100101 et seq.), and Public Health Service Act (42 U.S. Code Chapter 6A), the NPS Office of Public Health (OPH) is called upon to conduct disease surveillance, respond to urgent outbreaks, and prevent illnesses within or associated with National Parks. National Parks are federally managed lands where state and local health departments may not have jurisdiction, therefore the public health response rests with the NPS OPH. This collection will allow the NPS OPH to conduct epidemiological investigations in response to public health events of concern, including:

• Incidents where 3 or more visitors, employees, or volunteers have similar symptoms or illnesses

• Single reports of rare or reportable diseases

• Incidents that result in death, serious injury, illness, and/or lead to overnight hospitalization

• Wildlife encounters of concern such as bites, scratches, or attacks and wildlife deaths that do not fit known patterns

• Any additional illnesses of public health concern

The information collected will be used to determine the agents, sources, modes of transmission, or risk factors so that effective prevention and control measures can be implemented.

Title of Collection: NPS Case and Outbreak Investigation Data Collections.

OMB Control Number: 1024-NEW.

Form Number: None.

Type of Review: New.

Respondents/Affected Public: Individuals/households, businesses, and local governments.

Total Estimated Number of Annual Respondents: 500.

Total Estimated Number of Annual Responses: 500.

Estimated Completion Time per Response: Varies from 10 minutes to 30 minutes, depending on the nature of the disease outbreak or event.

Total Estimated Number of Annual Burden Hours: 150.

Respondent's Obligation: Voluntary.

Frequency of Collection: On occasion.

Total Estimated Annual Nonhour Burden Cost: None.

An agency may not conduct or sponsor and a person is not required to respond to a collection of information unless it displays a currently valid OMB control number.

The authority for this action is the Paperwork Reduction Act of 1995 (44 U.S.C. 3501 et seq.).

Phadrea Ponds,
National Park Service Information Collections Clearance Officer.

[FR Doc. 2022-25543 Filed 11-22-22; 8:45 am]

BILLING CODE 4312-52-P